DEPARTMENT OF TRANSPORTATION

Surface Transportation Board

[STB Finance Docket No. 34484]

James Riffin d/b/a the Northern Central Railroad—Acquisition and Operation Exemption—in York County, PA and Baltimore County, MD

James Riffin d/b/a the Northern Central Railroad (NCR), a noncarrier, has filed a verified notice of exemption under 49 CFR 1150.31 to acquire and operate approximately: (a) 20.9 miles of rail line from the Commissioners of York County, PA (Conrail's former Line Code 1224) between milepost 35.1 (at the Maryland/Pennsylvania line), and milepost 56 (Grantly), in York County, PA; (b) 2.0 miles of abandoned rail line (Conrail's former Line Code 1224) between milepost 14.2 (Cockeysville) and milepost 16.2 (Asland), in Baltimore County, MD; and (c) 0.9 miles of abandoned rail line (Conrail's former line Code 1224) between milepost 24.3 (Blue Mount) and milepost 25.2 (Blue Mount Quarry), in Baltimore County, MD.¹ NCR proposes to interchange with the Genesee and Wyoming Railroad.

¹ NCR has indicated that the portions of the abandoned right-of-way it proposes to acquire and operate in (b) and (c) above have reverted back to the original owners. Therefore, NCR does not need Board authority to acquire those portions of the right-of-way; however, it does need Board authority to operate those portions of the line.

NCR certifies that its projected annual revenues as a result of this transaction will not exceed those that would qualify it as a Class III rail carrier and states that such revenues will not exceed $5 million annually. NCR intends to commence these activities within 90 days from the date the notice of exemption was filed (March 8, 2004).

If the verified notice contains false or misleading information, the exemption is void ab initio. Petitions to revoke the exemption under 49 U.S.C. 10502(d) may be filed at any time. The filing of a petition to revoke will not automatically stay the transaction.

An original and 10 copies of all pleadings, referring to STB Finance Docket No. 34484, must be filed with the Surface Transportation Board, 1925 K Street, NW., Washington, DC 20423-0001. In addition, a copy of each pleading must be served on James Riffin, 1941 Greenspring Drive, Timonium, MD 21093.

Board decisions and notices are available on our Web site at www.stb.dot.gov.

Decided: March 25, 2004.
By the Board, Joseph H. Dettmar, Acting Director, Office of Proceedings.
Vernon A. Williams,
Secretary.

[FR Doc. 04-7326 Filed 4-6-04; 8:45 am]

BILLING CODE 4915-01-P